DEPARTMENT OF THE TREASURY

Submission for OMB Review; Comment Request

March 22, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 28, 2000 to be assured of consideration.

Internal Revenue Service (IRS)

OMB Number: 1545-1668.

Form Number: IRS Form 8865 and Schedules.

Type of Review: Extension.

Title: Return of U.S. Persons With Respect to Certain Foreign Partnerships.

Description: The Taxpayer Relief Act of 1997 significantly modified the information reporting requirements with respect to foreign partnerships. The Act made the following three changes: (1) Expanded section 6038B to require U.S. persons transferring property to foreign partnerships in certain transactions to report those transfers; (2) expanded section 6038 to require certain U.S. partners of controlled foreign partnerships to report information about the partnerships; and (3) modified the reporting required under section 6046A with respect to acquisitions and dispositions of foreign partnership interests. Form 8865 will be used by U.S. persons to fulfill their reporting obligations under sections 6038B, 6038, and 6046A.

Respondents: Business or other for-profit, Individuals or households, Not-for-profit institutions.

Estimated Number of Respondents/Recordkeepers: 5,000.

Estimated Burden Hours Per Respondent/Recordkeeper
Form | Recordkeeping | Learning about the law of the form | Preparing and sending the form to the IRS
8865 | 15 hr., 32 min | 3 hr., 59 min | 4 hr., 25 min.
Schedule O (Form 8865) | 12 hr., 55 min | 2 hr., 23 min | 2 hr., 42 min.
Schedule P (Form 8865) | 5 hr., 16 min | 24 min | 30 min.

Frequency of Response: Annually.

Estimated Total Reporting/Recordkeeping Burden: 154,015 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland
Departmental Reports Management Officer.

[FR Doc. 00-7756 Filed 3-28-00; 8:45 am]

BILLING CODE 4830-01-P